FEDERAL ELECTION COMMISSION

Sunshine Act Notice

AGENCY: Federal Election Commission.

Date and Time: Thursday, November 3, 2011 at 10 a.m.

Place: 999 E Street NW., Washington, DC (Ninth Floor).

Status: This Meeting, Open to the Public, Was Canceled.

Person To Contact For Information: Judith Ingram, Press Officer, Telephone: (202) 694-1220.

Shawn Woodhead Werth,
Secretary and Clerk of the Commission.

[FR Doc. 2011-28257 Filed 10-27-11; 4:15 pm]

BILLING CODE 6715-01-P